NATIONAL CREDIT UNION ADMINISTRATION

Agency Information Collection Activities: Submission to OMB for Review; Comment Request

AGENCY: National Credit Union Administration (NCUA).

ACTION: Request for comment.

SUMMARY: The NCUA is resubmitting the following information collection to the Office of Management and Budget (OMB) for review and clearance under the Paperwork Reduction Act of 1995 (Pub. L. 104-13, 44 U.S.C. Chapter 35). This information collection is published to obtain comments from the public.

DATES: Comments will be accepted until July 23, 2007.

ADDRESSES: Interested parties are invited to submit written comments to NCUA Clearance Officer listed below:

Clearance Officer: Mr. Neil McNamara, National Credit Union Administration, 1775 Duke Street, Alexandria, VA 22314-3428, Fax No. 703-837-2861, E-mail: _ociomail@ncua.gov.

FOR FURTHER INFORMATION CONTACT: Requests for additional information or a copy of the information collection request, should be directed to Tracy Sumpter at the National Credit Union Administration, 1775 Duke Street, Alexandria, VA 22314-3428, or at (703) 518-6444.

SUPPLEMENTARY INFORMATION: Proposal for the following collection of information:

OMB Number: 3133-0032.

Form Number: N/A.

Type of Review: Reinstatement, with change, of a previously approved collection.

Title: Records Preservation under 12 CFR Part 749.

Description: Part 749 of NCUA Regulations directs each credit union to have a vital records preservation program that includes procedures for maintaining duplicate vital records at a location far enough from the credit union's offices to avoid the simultaneous loss of both sets of records in the event of a disaster. A proposed regulatory amendment requires the program be in writing and include emergency contact information for employees, officials, regulatory offices, and vendors used to support vital records.

Respondents: All credit unions.

Estimated No. of Respondents/Record keepers: 8,420.

Estimated Burden Hours Per Response: 2 hours.

Frequency of Response: Recordkeeping, reporting and on occasion.

Estimated Total Annual Burden Hours: 16,930.

Estimated Total Annual Cost: $842,000.

By the National Credit Union Administration Board on June 18, 2007.
Mary Rupp,
Secretary of the Board.

[FR Doc. E7-12059 Filed 6-21-07; 8:45 am]

BILLING CODE 7535-01-P